DEPARTMENT OF COMMERCE

International Trade Administration

[A-570-126]

Non-Refillable Steel Cylinders From the People's Republic of China: Final Results and Partial Rescission of the Antidumping Duty Administrative Review; 2022-2023

AGENCY: Enforcement and Compliance, International Trade Administration, Department of Commerce.

SUMMARY: The U.S. Department of Commerce (Commerce) is conducting an administrative review of the antidumping duty order on non-refillable steel cylinders (non-refillable cylinders) from the People's Republic of China (China). We determine that Wuyi Xilinde Machinery Manufacture Co., Ltd. (Wuyi Xilinde) made sales at less than normal value (NV) during the period of review (POR) May 1, 2022, through April 30, 2023. Additionally, Commerce is rescinding this administrative review with respect to Ningbo Eagle Machinery & Technology Co., Ltd. (Ningbo Eagle).

DATES: Applicable October 17, 2024.

FOR FURTHER INFORMATION CONTACT: Alex Cipolla, AD/CVD Operations, Office III, Enforcement and Compliance, International Trade Administration, U.S. Department of Commerce, 1401 Constitution Avenue NW, Washington, DC 20230; telephone: (202) 482-4956.

SUPPLEMENTARY INFORMATION:

Background

On June 6, 2024, Commerce published the Preliminary Results of this review in the Federal Register and invited interested parties to comment on those results.¹ On July 8, 2024, we received a case brief from Wuyi Xilinde.² No other party to this proceeding submitted a case or rebuttal brief. On July 22, 2024, Commerce tolled certain deadlines in this administrative proceeding by seven days.³ The deadline for these final results is now October 11, 2024. For a complete description of the events that occurred since the Preliminary Results, see the Issues and Decision Memorandum.⁴ Commerce conducted this review in accordance with section 751(a) of the Tariff Act of 1930, as amended (the Act).

¹ See Non-Refillable Steel Cylinders from the People's Republic of China: Preliminary Results, Partial Rescission, and Intent To Rescind, in Part, of the Antidumping Duty Administrative Review; 2022-2023, 89 FR 48370 (June 6, 2024) (Preliminary Results), and accompanying Preliminary Decision Memorandum.

² See Wuyi Xilinde's Case Brief, “Wuyi Xilinde's Case Brief,” dated July 8, 2024.

³ See Memorandum, “Tolling of Deadlines for Antidumping and Countervailing Duty Proceedings,” dated July 22, 2024.

⁴ See Memorandum, “Issues and Decision Memorandum for the Final Results of the Administrative Review of Non-Refillable Steel Cylinders from the People's Republic of China; 2022-2023,” dated concurrently with, and hereby adopted by, this notice (Issues and Decision Memorandum).

Scope of the Order ⁵

⁵ See Certain Non-Refillable Steel Cylinders from the People's Republic of China: Amended Final Antidumping Duty Determination and Antidumping Duty and Countervailing Duty Orders, 86 FR 25839 (May 11, 2021) (Order).

The products covered by this Order are non-refillable steel cylinders from China. For a complete description of the scope, see the Issues and Decision Memorandum.

Analysis of Comments Received

The issue raised by Wuyi Xilinde in its case brief is listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on our review and analysis of the comment received from Wuyi Xilinde, we made one change to the Preliminary Results margin calculation for the respondent.⁶

⁶ See Memorandum, “Analysis for the Final Results of the Administrative Review of Non-Refillable Steel Cylinders from the People's Republic of China,” dated concurrently with this notice.

Rescission of Review, in Part

In the Preliminary Results, Commerce rescinded the review, in part, with respect to two firms identified in the Initiation Notice: ⁷ Sanjiang Kai Yuan Co. Ltd. (SKY), in accordance with 19 CFR 351.213(d)(1), and Zhejiang Kin-Shine Technology Co., Ltd. (Kin-Shine), in accordance with 19 CFR 351.213(d)(3). For a third firm identified in the Initiation Notice, Ningbo Eagle, the Preliminary Results notified all interested parties of Commerce's preliminary intent to rescind this administrative review for this firm due to the absence of evidence of suspended entries of subject merchandise from Ningbo Eagle during the POR and identified a period for parties to submit comment. No parties provided comment on Commerce's intent to rescind review on Ningbo Eagle. Accordingly, Commerce is rescinding this review with respect to Ningbo Eagle in accordance with 19 CFR 351.213(d)(3). As a result, Wuyi Xilinde is the sole party initiated upon which remains subject to the final results of review.

⁷ See Initiation of Antidumping and Countervailing Duty Administrative Reviews, 88 FR 44262 (July 12, 2023).

China-Wide Entity

Under Commerce's policy regarding the conditional review of the China-wide entity,⁸ the China-wide entity will not be under review unless a party specifically requests, or Commerce self-initiates, a review of the entity. Because no party requested a review of the China-wide entity in this review, the entity is not under review, and the entity's rate (i.e., 112.21 percent) is not subject to change.⁹

⁸ See Antidumping Proceedings: Announcement of Change in Department Practice for Respondent Selection in Antidumping Duty Proceedings and Conditional Review of the Nonmarket Economy Entity in NME Antidumping Duty Proceedings, 78 FR 65963 (November 4, 2013).

⁹ See Order, 86 FR 25840.

Final Results of the Review

Commerce determines the following estimated weighted-average dumping margins exist for the period May 1, 2022, through April 30, 2023:

Exporter | Weighted- average dumping margin (percent)
Wuyi Xilinde Machinery Manufacture Co., Ltd | 150.37

Disclosure

Commerce intends to disclose to parties to the proceeding the calculations performed for these preliminary results of review within five days of the date of publication of this notice in the Federal Register in accordance with 19 CFR 351.224(b).

Assessment Rates

Pursuant to section 751(a)(2)(C) of the Act and 19 CFR 351.212(b), Commerce has determined, and CBP shall assess, antidumping duties on all appropriate entries of subject merchandise in accordance with these final results of review. Commerce intends to issue assessment instructions to CBP no earlier than 35 days after the date of publication of these final results. If a timely summons is filed at the U.S. Court of International Trade, the assessment instructions will direct CBP not to liquidate relevant entries until the time for parties to file a request for a statutory injunction has expired (i.e., within 90 days of publication).

For Wuyi Xilinde, which has a final weighted-average dumping margin that is not zero or de minimis (i.e., less than 0.5 percent), we will calculate importer-specific assessment rates for that respondent, in accordance with 19 CFR 351.212(b)(1). Pursuant to 19 CFR 351.212(b)(1), where the respondent reported the entered value of its U.S. sales, we will calculate importer-specific ad valorem assessment rates based on the ratio of the total amount of dumping calculated for the examined sales to the total entered value of the sales for which entered value was reported. Where the respondent did not report entered value, we will calculate importer-specific per-unit duty assessment rates based on the ratio of the total amount of antidumping duties calculated for the examined sales to the total quantity of those sales. To determine whether an importer-specific per-unit assessment rate is de minimis in accordance with 19 CFR 351.106(c)(2), we will also calculate an importer-specific ad valorem ratio based on estimated entered values.

Pursuant to a refinement in our non-market economy practice, for sales that were not reported in the U.S. sales data submitted by companies individually examined during this review, we will instruction CBP to liquidate entries associated with those sales at the rate for the China-wide entity.

For Ningbo Eagle, for which the administrative review is rescinded, antidumping duties shall be assessed at a rate equal to the cash deposit of estimated antidumping duties required at the time of entry, or withdrawal from warehouse, for consumption, in accordance with 19 CFR 351.212(c)(1)(i).

Cash Deposit Requirements

The following cash deposit requirements will be effective upon publication of the final results of this review for shipments of the subject merchandise from China entered, or withdrawn from warehouse, for consumption on or after the publication date, as provided by section 751(a)(2)(C) of the Act: (1) for Wuyi Xilinde, which has a separate rate, the cash deposit rate will be the rate established in these final results of review; (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity (i.e., 101.67 percent ¹⁰); and (4) for all non-Chinese exporters of subject merchandise which have not received their own rate, the cash deposit rate will be the rate applicable to the Chinese exporter that supplied that non-Chinese exporter. These deposit requirements, when imposed, shall remain in effect until further notice.

¹⁰ This cash deposit rate is adjusted for subsidy offsets. See Order, 86 FR 25840.

Notification to Importers Regarding the Reimbursement of Duties

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or increase in the amount of antidumping duties by the amount of the countervailing duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act, and 19 CFR 351.221(b)(5) and 19 CFR 351.213(h)(2).

Dated: October 10, 2024.
Scot Fullerton,
Acting Assistant Secretary for Enforcement and Compliance.

Appendix—List of Topics Discussed in the Issues and Decision Memorandum

I. Summary

II. Background

III. Scope of the Order

IV. Changes Since the Preliminary Results

V. Discussion of the Issue

Comment: Export Subsidy Adjustment

VI. Recommendation

[FR Doc. 2024-23987 Filed 10-16-24; 8:45 am]

BILLING CODE 3510-DS-P